DEPARTMENT OF TRANSPORTATION

Surface Transportation Board

[STB Finance Docket No. 35000]

TRI Railroad, LLC—Acquisition and Operation Exemption—TRI Owners Association

Tri Railroad, LLC (Railroad), a noncarrier, has filed a verified notice of exemption under 49 CFR 1150.31 to acquire from Tri Owners Association (Owners), and operate two track segments as follows: (1) Track A, which extends from point of connection with Union Pacific Railroad Company (UP) at Engineering Station 1+59 near UP milepost 259.20 to Engineering Station 123+74 at the end of track at or near Tahoe/Reno Industrial Center, a distance of approximately 12,215 track feet or 2.31 miles; and (2) Track B, which parallels Track A for a distance of approximately 2,202 track feet or .42 miles, for a total of 14,417 track feet or 2.73 miles, all located in Patrick, Storey County, NV.¹

¹ According to Railroad, the line does not have mileposts.

Railroad states that, in addition to connecting with UP, the rail line will also connect with BNSF Railway Company (BNSF) at Patrick. According to Railroad, UP owns the connecting trackage at Patrick, but BNSF has trackage rights over UP's trackage and will be able to interchange traffic with Railroad. Railroad further states that, although the line has been owned and operated by Owners as private track, an agreement has been reached where Owners has agreed to convey the line to its affiliated corporation, Railroad, for operation as a common carrier rail line.

Railroad certifies that its projected annual revenues as a result of the transaction will not exceed those that would qualify it as a Class III rail carrier and will not exceed $5 million.

The earliest this transaction may be consummated is the March 18, 2007 effective date of the exemption (30 days after the exemption was filed).

If the verified notice contains false or misleading information, the exemption is void ab initio. Petitions to revoke the exemption under 49 U.S.C. 10502(d) may be filed at any time. The filing of a petition to revoke will not automatically stay the transaction. Petitions for stay must be filed no later than March 9, 2007 (at least 7 days before the exemption becomes effective).

An original and 10 copies of all pleadings, referring to STB Finance Docket No. 35000, must be filed with the Surface Transportation Board, 395 E Street, SW., Washington, DC 20423-0001. In addition, a copy of each pleading must be served on Thomas F. McFarland, 208 South LaSalle St., Suite 1890, Chicago, IL 60604-1112.

Board decisions and notices are available on our Web site at http://www.stb.dot.gov.

Decided: February 21, 2007.
By the Board, David M. Konschnik, Director, Office of Proceedings.
Vernon A. Williams,
Secretary.

[FR Doc. E7-3472 Filed 2-27-07; 8:45 am]

BILLING CODE 4915-01-P